DEPARTMENT OF THE INTERIOR

National Park Service

[N6859; NPS-WASO-NAGPRA-NPS0041837; PPWOCRADN0-PCU00RP14.R50000]

Notice of Inventory Completion: Museum of the Cherokee People, Cherokee, NC

AGENCY: National Park Service, Interior.

ACTION: Notice.

SUMMARY: In accordance with the Native American Graves Protection and Repatriation Act (NAGPRA), the Museum of the Cherokee People (MotCP) has completed an inventory of human remains and associated funerary objects and has determined that there is a cultural affiliation between the human remains and associated funerary objects and Indian Tribes or Native Hawaiian organizations in this notice.

DATES: Repatriation of the human remains and associated funerary objects in this notice may occur on or after February 17, 2026.

ADDRESSES: Send written requests for repatriation of the human remains and associated funerary objects in this notice to Evan Mathis, Museum of the Cherokee People, P.O. Box 1599, 589 Tsali Blvd., Cherokee, NC 28719, email evan.mathis@motcp.org.

SUPPLEMENTARY INFORMATION: This notice is published as part of the National Park Service's administrative responsibilities under NAGPRA. The determinations in this notice are the sole responsibility of the Museum of the Cherokee People, and additional information on the determinations in this notice, including the results of consultation, can be found in its inventory or related records. The National Park Service is not responsible for the determinations in this notice.

Abstract of Information Available

Human ancestral remains representing, at least, three individuals have been identified from 9R14, the White's Mound Site. No associated funerary objects are present. The White's Mound site is situated on the Savannah River in Richmond County, Georgia. After completing the consultation process with federally recognized Tribal Nations, this site is culturally affiliated with the Miccosukee Tribe of Indians of Florida, the Muscogee (Creek) Nation, the Poarch Band of Creek Indians, the Seminole Nation, and the Seminole Tribe of Florida. It is unknown when or by whom the individuals were removed, but they were transferred to the Augusta Richmond County Museum (ARCM) sometime prior to 1981. Richard Wescott, the Executive Director of the ARCM, transferred the individuals to the Museum of the Cherokee People in 1992, where they have been housed since that time. To our knowledge, no hazardous substances were used to treat any of the human ancestral remains.

Human ancestral remains representing, at least, one individual has been identified from 9SN20, the Ebenezer Archaeological Site. The one associated funerary object is a canine of an unidentified animal that was stored with the individual. The Ebenezer Archaeological Site is situated in the Ebenezer Creek Watershed, located in Screven County, Georgia, near the Savannah River. After completing the consultation process with federally recognized Tribal Nations, this site is culturally affiliated with the Miccosukee Tribe of Indians of Florida, the Muscogee (Creek) Nation, the Poarch Band of Creek Indians, the Seminole Nation, and the Seminole Tribe of Florida. It is unknown when or by whom the individuals were removed, but they were transferred to the Augusta Richmond County Museum (ARCM) sometime prior to 1981. Richard Wescott, the Executive Director of the ARCM, transferred the individuals to the Museum of the Cherokee People in 1992, where they have been housed since that time. To our knowledge, no hazardous substances were used to treat any of the human ancestral remains or the associated funerary object.

Cultural Affiliation

Based on the information available and the results of consultation, cultural affiliation is reasonably identified by the geographical location or acquisition history of the human remains and associated funerary objects described in this notice.

Determinations

The Museum of the Cherokee People has determined that:

• The human remains described in this notice represent the physical remains of four individuals of Native American ancestry.

• The one object described in this notice is reasonably believed to have been placed intentionally with or near individual human remains at the time of death or later as part of the death rite or ceremony.

• There is a connection between the human remains and associated funerary objects described in this notice and the Miccosukee Tribe of Indians; Poarch Band of Creek Indians; Seminole Tribe of Florida; The Muscogee (Creek) Nation; and The Seminole Nation of Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after February 17, 2026. If competing requests for repatriation are received, the Museum of the Cherokee People must determine the most appropriate requestor prior to repatriation. Requests for joint repatriation of the human remains and associated funerary objects are considered a single request and not competing requests. The Museum of the Cherokee People is responsible for sending a copy of this notice to the Indian Tribes and Native Hawaiian organizations identified in this notice and any other consulting parties.

Authority: Native American Graves Protection and Repatriation Act, 25 U.S.C. 3003, and the implementing regulations, 43 CFR 10.10.

Dated: January 9, 2026.
Melanie O'Brien,
Manager, National NAGPRA Program.

[FR Doc. 2026-00667 Filed 1-14-26; 8:45 am]

BILLING CODE 4312-52-P